DEPARTMENT OF TRANSPORTATION

Federal Highway Administration

Environmental Impact Statement; Davis County, UT

AGENCY: Federal Highway Administration (FHWA), DOT.

ACTION: Notice of intent.

SUMMARY: The FHWA is issuing this notice to advise the public that an Environmental Impact Statement will be prepared for proposed transportation improvements in Davis County, Utah.

FOR FURTHER INFORMATION CONTACT: Gregory Punske, Environmental Program Manager, Federal Highway Administration, 2520 West 4700 South, Suite 9A, Salt Lake City, Utah 84118, Telephone: (801) 963-0182.

SUPPLEMENTARY INFORMATION: The FHWA, in cooperation with the Utah Department of Transportation (UDOT) and Layton City, will prepare an Environmental Impact Statement (EIS) on a proposal to address current and projected traffic demand and operations for the South Layton Interchange (1-15 Milepost 330) and to improve transportation access across the Union Pacific Railroad (UPRR) to the developing area of west Layton. The proposed project study area will extend from the Kaysville 200 North Interchange on the south to the Hill Field Interchange on the north and along an east-west corridor from Fort Lane Street to Flint Street or further west as determined during the environmental process. The project study area lies within Layton City and Kaysville City in Davis County.

The public, as well as Federal, State, and local agencies, will be invited to participate in project scoping to ensure that a full range of alternatives is considered and that all appropriate environmental issues and resources are evaluated. The environmental process will include opportunities to provide comments on the purpose and need for the project, potential alternatives, and social, economic, and environmental issues of concern.

The FHWA will consider a reasonable range of alternatives, based on agency and public input, to meet the project objectives of addressing current and projected traffic demand and operations at the 1-15 South Layton Interchange (1-15 Milepost 330) and improving transportation access to the area west of the Union Pacific Railroad.

Letters describing the proposed action and soliciting comments will be sent to appropriate Federal, State, and local agencies, and to private organizations and citizens who have previously expressed or who are known to have an interest in this proposal.

The public is invited to participate in a scoping meeting on May 24, 2006 at the Layton Elementary School at 369 West Gentile Street, Layton, Utah. This public meeting will be an open house format from 5 p.m. to 8 p.m.

To ensure that the full range of issues related to this proposed action is addressed and all significant issues are identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Dated: May 12, 2006.
Gregory S. Punske,
Environmental Program Manager, Salt Lake City, Utah.

[FR Doc. 06-4644 Filed ?-??-06; 8:45 am]

BILLING CODE 4910-22-M